DEPARTMENT OF THE INTERIOR

National Park Service

Notice of Intent to Repatriate Cultural Items: Paul H. Karshner Memorial Museum, Puyallup, WA

AGENCY: National Park Service, Interior.

ACTION: Notice.

Notice is here given in accordance with the Native American Graves Protection and Repatriation Act (NAGPRA), 25 U.S.C. 3005, of the intent to repatriate cultural items in the possession of the Paul H. Karshner Memorial Museum, Puyallup, WA, that meets the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1937, two unassociated funerary objects were removed from a grave in Alaska, by Dr. Warner and Mrs. Ella Karshner while on a tourist cruise of southeast Alaska, and donated to the Paul H. Karshner Memorial Museum in 1938 (Catalog No. 1938.01.1-71). The objects are described in museum records as, “2 strings of old Russian beads from an Alaskan grave. Probably used in barter with Indians when Alaska belonged to Russia.” The two necklaces are composed of glass beads of various colors. One necklace has faceted blue and round red beads (26” long); the other necklace has blue, green, white, red, black, and yellow round beads (66” long).

While there is no record of the exact location the funerary objects were obtained, the museum has a letter written by Mrs. Karshner describing the couple's 1937 Alaskan cruise on the SS Cordova, an Alaska Steamship Company (ASC) vessel. On their cruise, she noted they stopped for two weeks at Klawock, located on the west side of Prince of Wales Island. A 1936 Alaska Steamship Company route map confirms Klawock was a stop along their Seattle-Skagway-Sitka route. All of the other items donated by the Karshners from their 1937 Alaskan cruise were recorded as collected from southeast Alaska. Based on this evidence, the museum considers the objects to have been removed from a location along the Alaska Steamship Company's Seattle-Skagway-Sitka route in southeast Alaska.

The museum consulted with the Sealaska Corporation regarding these unassociated funerary objects. In 1971, the Sealaska Corporation was formed under the Alaska Native Claims Settlement Act, and its shareholders include Native residents of southeast Alaska and Native people who originated from southeast Alaska. Southeast Alaska is within the traditional territory of the Tlingit and Haida Alaskan Native groups (De Laguna 1990: 203-228; Whorl 1990:149-158 in Handbook of North American Indians, Vol. 7, Northwest Coast). Consultation evidence presented by the Sealaska Corporation supports the use of Russian trade beads among Alaskan Native Tlingit people as early as 1741, when the first contact between Tlingit people and Russians occurred (Dauenhauer, 2008). The beads became a symbol of wealth for Tlingit people who owned them, and it was a common practice among the Tlingit to inter beads with their deceased.

Officials of the Paul H. Karshner Memorial Museum have determined that, pursuant to 25 U.S.C. 3001 (3)(B), the two cultural items described above are reasonably believed to have been placed with or near individual human remains at the time of death or later as part of the death rite or ceremony and are believed, by a preponderance of the evidence, to have been removed from a specific burial site of an Native American individual. Officials of the Paul H. Karshner Memorial Museum also have determined that, pursuant to 25 U.S.C. 3001 (2), there is a relationship of shared group identity that can be reasonably traced between the unassociated funerary objects and the Sealaska Corporation.

Representatives of any other Indian tribe that believes itself to be culturally affiliated with the unassociated funerary objects should contact Dr. Jay Reifel, Assistant Superintendent, Puyallup School District, telephone (253) 840-8971, or Ms. Beth Bestrom, Curator, Paul H. Karshner Memorial Museum, 309 4th St. NE, Puyallup, WA 98372, telephone (253) 841-8748, before January 8, 2010. Repatriation of the unassociated funerary objects to the Sealaska Corporation may proceed after that date if no additional claimants come forward.

The Paul H. Karshner Memorial Museum is responsible for notifying the Sealaska Corporation that this notice has been published.

Dated: October 29, 2009.
Richard C. Waldbauer,
Acting Manager, National NAGPRA Program.

[FR Doc. E9-29290 Filed 12-8-09; 8:45 am]

BILLING CODE 4312-50-S